SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes new information collections, revisions to OMB-approved information collections and extensions (no change) of OMB-approved information collections.

SSA is soliciting comments on the accuracy of the Agency's burden estimate; the need for the information; its practical utility; ways to enhance its quality, utility and clarity; and ways to minimize the burden on respondents, including the use of automated collection techniques or other forms of information technology. Mail, e-mail or fax your comments and recommendations on the information collection(s) to the OMB Desk Officer and the SSA Reports Clearance Officer to the addresses or fax numbers listed below.

(OMB): Office of Management and Budget, Attn: Desk Officer for SSA, Fax: 202-395-6974, E-mail address: OIRA_Submission@omb.eop.gov.

(SSA): Social Security Administration, DCBFM, Attn: Reports Clearance Officer, 1333 Annex Building, 6401 Security Blvd., Baltimore, MD 21235, Fax: 410-965-6400, E-mail address: OPLM.RCO@ssa.gov.

I. The information collections listed below are pending at SSA. SSA will submit them to OMB within 60 days from the date of this notice. Therefore, submit your comments to SSA within 60 days from the date of this publication. You can obtain copies of the collection instruments by calling the SSA Reports Clearance Officer at 410-965-0454 or by writing to the address listed above.

1. Report to United States Social Security Administration by Person Receiving Benefits for a Child or for an Adult Unable to Handle Funds/Report to the United States Social Security Administration—0960-0049. SSA needs the information on Forms SSA-7161-OCR-SM and SSA-7162-OCR-SM to: (1) Determine continuing entitlement to Social Security benefits: (2) correct benefit amounts for beneficiaries outside the United States: and (3) monitor the performance of representative payees outside the United States. The respondents are individuals living outside the United States who are receiving benefits on their own (or for someone else) under Title II of the Social Security Act.

Type of Request: Extension of an OMB-approved information collection.

Form Number | Number of respondents | Frequency of response | Average burden per response (minutes) | Estimated annual burden (hours)
SSA-7161-OCR-SM | 28,461 | 1 | 15 | 7,115
SSA-7162-OCR-SM | 247,136 | 1 | 5 | 20,595
Totals | 275,597 |  |  | 27,710

The total estimated annual burden is 27,710 hours.

2. Questionnaire About Employment or Self-Employment Outside the United States—20 CFR 404.401(b)(1), 404.415 & 404.417—0960-0050. SSA uses Form SSA-7163 to determine: (1) Whether work performed by beneficiaries outside the United States is cause for deductions from their monthly benefits; (2) which of two work tests (foreign or regular test) is applicable; and (3) the months, if any, for SSA will impose deductions. Respondents are beneficiaries living and working outside the United States.

Type of Request: Revision of an OMB-approved information collection.

Number of Respondents: 20,000.

Frequency of Response: 1.

Average Burden per Response: 12 minutes.

Estimated Annual Burden: 4,000 hours.

3. Petition to Obtain Approval of a Fee for Representing a Claimant before the Social Security Administration—20 CFR 404.1720, 404.1725, 416.1520 & 416.1525—0960-0104. Representatives use Form SSA-1560 to charge a fee for representing a claimant in proceedings before SSA. A representative must file either a fee petition or fee agreement with SSA. If the representative files a fee petition (Form SSA-1560) to obtain approval of a fee, SSA reviews the information to determine a reasonable fee for the representative's services. Respondents are attorneys and non-attorneys who are representatives of claimants for Social Security benefits.

Type of Request: Revision of an OMB-approved information collection.

Number of Respondents: 34,624.

Frequency of Response: 1.

Average Burden per Response: 30 minutes.

Estimated Annual Burden: 17,312 hours.

4. Annual Earnings Test Direct Mail Follow-Up Program Notices—20 CFR 404.452-404.455—0960-0369. The Mid-Year Mailer ensures that Social Security payments are correct. Beneficiaries under full retirement age (FRA) use Forms SSA-L9778, SSA-L9779, and SSA-L9781 to update their current year estimate and their estimate for the following year. Beneficiaries use Mid-Year Mailer Forms SSA-L9784 and SSA-L9785 to request earnings estimates in the year of FRA for the period prior to the month of FRA. Beneficiaries will use new Form SSA-L9790 to report earnings information at the end of the year. The respondents are working Retirement Survivors Insurance beneficiaries with earnings over the exempt amount.

Type of Request: Revision of an OMB-approved information collection.

Number of Respondents: 460,000.

Frequency of Response: 1.

Average Burden per Response: 10 minutes.

Estimated Annual Burden: 76,667 hours.

5. Electronic Benefit Verification Information (BEVE)—20 CFR 401.40—0960-0595. The electronic proof of income (POI) verification Internet service, BEVE, provides beneficiaries the convenience of requesting a proof of income statement through the Internet. Beneficiaries often require a POI to obtain housing, Food Stamps, or other public services. SSA uses the information BEVE collects to provide the POI to the beneficiary, after verifying the identity of the requestor. The respondents are Social Security Title II, Title XVI, and Medicare beneficiaries.

Type of Request: Extension of an OMB-approved information collection.

Number of Respondents: 314,974.

Frequency of Response: 1.

Average Burden per Response: 5 minutes.

Estimated Annual Burden: 26,248 hours.

6. Application for Survivors Benefits—20 CFR 404.611 (a) and (c)—0960-0062. Surviving family members of armed services personnel can file for Social Security and Veterans' benefits at SSA or the Veterans Administration (VA). If applicants go to the VA first, they complete Form SSA-24, the Application for Survivor's Benefits. The VA then forwards Form SSA-24 to SSA for processing. If applicants previously filed for benefits at SSA, the Agency disregards this form. The respondents are survivors of deceased armed services personnel who are applying for benefits at the VA.

Type of Request: Extension of an OMB-approved information collection.

Number of Respondents: 3,200.

Frequency of Response: 1.

Average Burden per Response: 15 minutes.

Estimated Annual Burden: 800 hours.

7. Quarterly Statistical Report on Recipients and Payments under State-Administered Assistance Programs for Aged, Blind and Disabled (Individuals and Couples) Recipients—20 CFR 416.2010, 20 CFR 416.2098—0960-0130. States with agreements with SSA under the State supplementation provisions of the Social Security Act must provide statistical data to SSA. State Disability Determination Services (DDS) provide information to SSA on expenditures and caseloads of State-administered supplements under the Supplemental Security Income program. SSA needs the data from this report to: (1) Supplement the information it already has about federally-administered programs; (2) more fully explain the effect of the public income support programs on the needy, aged, blind, and disabled; and (3) monitor State compliance with the mandatory pass-along provision. States and other Federal agencies use data from this report as well for various purposes. The respondents are State DDSs.

Type of Request: Extension of an OMB-approved information collection.

Number of Respondents: 31.

Frequency of Response: 4.

Average Burden per Response: 60 minutes.

Estimated Annual Burden: 124 hours.

8. Employee Work Activity Questionnaire—20 CFR 404.1574, 404.1592—0960-0483. Social Security disability claimants qualify for benefits when a verified physical or mental impairment prevents them from working. If disability claimants attempt to return to work after receiving disability benefits but are unable to continue working, they submit Form SSA-3033, the Employee Work Activity Questionnaire, so SSA can evaluate the work attempt. SSA also uses this form to evaluate unsuccessful subsidy work. Ultimately, SSA uses the form to determine applicants' continuing eligibility for disability benefits. The respondents are employers of Social Security disability beneficiaries who unsuccessfully attempted to return to work.

Type of Request: Extension of an OMB approved information collection.

Number of Respondents: 15,000.

Frequency of Response: 1.

Average Burden per Response: 15 minutes.

Estimated Annual Burden: 3,750 hours.

9. Medical Permit Parking Application—41 CFR 101-20.104-2—0960-0624. SSA employees and contractors with a qualifying medical condition who park at SSA-owned and -leased facilities may receive a medical parking permit. SSA uses three forms as part of this program: SSA-3192, the Physician's Report (the applicant's physician completes this to verify the medical condition); Form SSA-3193, the Application and Statement (the person seeking the permit completes this when first applying for the medical parking space); and Form SSA-3194, the Renewal Certification (medical parking permit holders complete this to verify their continued need for the permit). The respondents are SSA employees and contractors seeking medical parking permits and their physicians. Note: Because SSA employees are federal workers and are PRA-exempt, the burden below is only for SSA contractors and physicians (of both SSA employees and contractors).

Type of Request: Revision to an OMB-approved information collection.

| Number of respondents | Frequency of response | Average burden per response (minutes) | Estimated annual burden (hours)
SSA-3192 | 75 | 1 | 90 | 113
SSA-3193 | 75 | 1 | 30 | 38
SSA-3194 | 10 | 1 | 5 | 1
Totals | 160 |  |  | 152

The total estimated annual burden is 152 hours.

10. Medicare Part D Subsidies Regulations—20 CFR 418—0960-0702. The Medicare Prescription Drug Improvement, and Modernization Act of 2003 (MMA) established the Medicare Part D program for voluntary prescription drug coverage of premium, deductible, and co-payment costs for certain low-income individuals. The MMA also mandated the provision of subsidies for those individuals who qualify for the program and who meet eligibility criteria for help with premium, deductible, and/or co-payment costs. This law required SSA to make eligibility redeterminations and to provide a process for appealing SSA's determinations. Regulation sections 418.325(c), 418.3645, 418.3665(a), and 418.3670 contain public reporting requirements not approved by OMB. This ICR is for these four sections. Respondents are applicants for the Medicare Part D subsidies who request an administrative review hearing.

Type of Request: Revision to an existing OMB-approved information collection.

Section | Annual number of respondents | Frequency of response | Average burden per response (minutes) | Estimated annual burden (hours)
§ 418.3625(c) | 2,500 | 1 | 5 | 208
§ 418.3645 | 10 | 1 | 20 | 3
§ 418.3665(a) | 1,000 | 1 | 5 | 83
§ 418.3670 | 5 | 1 | 10 | 1
Total | 3,515 |  |  | 295

The total estimated annual burden is 295 hours.

II. SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

Electronic Death Registration (EDR)—20 CFR 404.301; 404.310-311; 404.316; 404.330-341; 404.350-352; and 404.371; 416.912—0960-0700. SSA contracts with the States to obtain death certificate information to compare with SSA's payment files. This comparison ensures the accuracy of our payment files by enabling SSA to detect unreported or inaccurate beneficiary death dates. This is necessary because entitlement to retirement, disability, wife's, husband's or parent's benefits under the provisions of the Social Security Act terminates when the beneficiary dies. The respondents are State governments.

Correction: The first and second Federal Register Notices for this information collection reported incorrect burden information. We are publishing this correction Notice to show the correct burden information.

Type of Request: Extension of an OMB-approved information collection.

Collection format | Number of respondents | Frequency of responses | Average cost per record request | Estimated annual cost burden
State Death Match—Manual Process | 31 | 50,000 per State | $0.74 | * $1,147,000
State Death Match—Electronic Death Registration (EDR) | 22 | 50,000 per State | $2.65 | * 2,915,000
Totals | 53 |  |  | 4,062,000

Estimated Annual Cost for all respondents:

* Please note that both of these data matching processes are entirely electronic and there is no hourly burden for the respondent to provide this information.

The cost burdens are based on the four cost components incurred by the respondents:

—software;

—hardware;

—average annual salaries of database management personnel; and

—average annual salaries of support personnel.

Dated: March 24, 2008.
Elizabeth A. Davidson,
Reports Clearance Officer, Social Security Administration.

[FR Doc. E8-6435 Filed 3-27-08; 8:45 am]

BILLING CODE 4191-02-P